DEPARTMENT OF HEALTH AND HUMAN SERVICES

National Institutes of Health

National Institute of Diabetes and Digestive and Kidney Diseases; Amended Notice of Meeting

Notice is hereby given of a change in the meeting of the National Diabetes and Digestive and Kidney Diseases Advisory Council, November 23, 2021, 11:30 a.m. to November 23, 2021, 12:30 p.m., National Institutes of Health, 6707, Two Democracy Plaza, Bethesda, MD 20892, which was published in the Federal Register on November 12, 2021, 62834.

Agenda Item Added: Concept Clearance, 12:00 p.m.-12:30 p.m. The meeting is open to the public.

Dated: November 17, 2021.
Miguelina Perez,
Program Analyst, Office of Federal Advisory Committee Policy.

[FR Doc. 2021-25519 Filed 11-22-21; 8:45 am]

BILLING CODE 4140-01-P